NATIONAL NANOTECHNOLOGY COORDINATION OFFICE

Nanoscale Science, Engineering and Technology Subcommittee, National Science and Technology Council, Committee on Technology

ACTION: Notice of open meeting.

SUMMARY: This notice announces the Workshop on Public Participation in Nanotechnology sponsored by the Nanoscale Science, Engineering and Technology (NSET) Subcommittee of the Committee on Technology, National Science and Technology Council (NSTC) through the National Nanotechnology Coordination Office (NNCO). The workshop will begin a dialogue on public engagement in nanotechnology-related issues and decisions.

DATES AND ADDRESSES: The workshop will be held on Tuesday, May 30, 2006 from 8:30 a.m. to 5:30 p.m. and Wednesday, May 31, 2006 from 8:30 a.m. to 5 p.m. All sessions of the workshop will be held at the Westin Arlington Gateway Hotel, 801 North Glebe Road, Arlington, Virginia 22202.

FOR FURTHER INFORMATION CONTACT: For information regarding this Notice, please contact Cate Alexander, National Nanotechnology Coordination Office. Telephone: (703) 292-4399. E-mail: calexand@nnco.nano.gov.

SUPPLEMENTARY INFORMATION: The Nanoscale Science Engineering and Technology (NSET) Subcommittee coordinates planning, budgeting, program implementation and review to ensure a balanced and comprehensive National Nanotechnology Initiative (NNI). The NSET Subcommittee is composed of representatives from agencies participating in the NNI. The NNCO assists the NSET Subcommittee in coordinating the NNI.

The purpose of the workshop is to explore various methods of public participation and to provide feedback to the NNCO and NSET Subcommittee regarding which methods might be appropriate for public engagement in nanotechnology. Experts from the field of public participation, risk communications and science education, as well as researchers on societal implications and public perceptions will give presentations. Participants will be involved in discussions on related topics.

Public Participation: This meeting is open to the public, up to the limit set by hotel fire codes. Participants will be able to voice their opinions in open workshop discussions. Pre-registration is required for participation. For information regarding space availability and registration, contact Cate Alexander, National Nanotechnology Coordination Office. Telephone: (703) 292-4399. E-mail: calexand@nnco.nano.gov.

E. Clayton Teague,
Director, National Nanotechnology Coordination Office.

[FR Doc. E6-6666 Filed 5-2-06; 8:45 am]

BILLING CODE 3170-W6-P